DEPARTMENT OF COMMERCE

Foreign-Trade Zones Board

[B-37-2024]

Foreign-Trade Zone (FTZ) 80, Notification of Proposed Production Activity; Senior Operation LLC; (Expansion Joints and Clamshell Bellows); New Braunfels, Texas

Senior Operation LLC submitted a notification of proposed production activity to the FTZ Board (the Board) for its facility in New Braunfels, Texas within FTZ 80. The notification conforming to the requirements of the Board's regulations (15 CFR 400.22) was received on June 28, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: metal expansion joints (stainless and carbon steel) and clamshell bellows (stainless and alloy steel) (duty rate ranges from duty-free to 5.5%).

The proposed foreign-status materials/components include: flat rolled stainless steel (width of 6.35 mm to 50.8 mm) and cold-rolled stainless-steel coils (width of 1.62 mm to 4.554 mm) (duty-free). The request indicates that the materials/components are subject to duties under section 232 of the Trade Expansion Act of 1962 (section 232) and section 301 of the Trade Act of 1974 (section 301), depending on the country of origin. The applicable section 232 and section 301 decisions require subject merchandise to be admitted to FTZs in privileged foreign status (19 CFR 146.41). The Board's regulations (15 CFR 400.13(c)(2)) require that merchandise subject to AD/CVD orders, or items which would be otherwise subject to suspension of liquidation under AD/CVD procedures if they entered U.S. customs territory, be admitted to the zone in privileged foreign status.

Public comment is invited from interested parties. Submissions shall be addressed to the Board's Executive Secretary and sent to: ftz@trade.gov. The closing period for their receipt is August 12, 2024.

A copy of the notification will be available for public inspection in the “Online FTZ Information System” section of the Board's website.

For further information, contact Christopher Wedderburn at Chris.Wedderburn@trade.gov.

Dated: June 28, 2024.
Elizabeth Whiteman,
Executive Secretary.

[FR Doc. 2024-14663 Filed 7-2-24; 8:45 am]

BILLING CODE 3510-DS-P